DEPARTMENT OF COMMERCE

International Trade Administration

[A-489-815]

Light-Walled Rectangular Pipe and Tube from Turkey; Notice of Final Results of Antidumping Duty Administrative Review

AGENCY: Import Administration, International Trade Administration, Department of Commerce.

SUMMARY: On June 15, 2010, the Department of Commerce (the Department) published in the Federal Register the preliminary results of the administrative review of the antidumping duty order on Light-Walled Rectangular Pipe and Tube from Turkey. See Light-Walled Rectangular Pipe and Tube from Turkey; Notice of Preliminary Results of Antidumping Duty Administrative Review, 75 FR 33779 (June 15, 2010) (Preliminary Results). We gave interested parties an opportunity to comment on the Preliminary Results, but and received noneno comments.

EFFECTIVE DATE: October 4, 2010.

FOR FURTHER INFORMATION CONTACT: Tyler Weinhold, or Robert James, AD/CVD Operations, Office 7, Import Administration, International Trade Administration, U.S. Department of Commerce, 14th Street and Constitution Avenue, NW, Washington, DC 20230; telephone (202) 482-1121 or (202) 482-0649, respectively

SUPPLEMENTARY INFORMATION:

Background

On June 15, 2010, the Department published the preliminary results of administrative review of the antidumping duty order covering light-walled rectangular pipe and tube from Turkey. See Preliminary Results. The parties subject to this review are Tosçelik Profil ve Sac Endustrisi A.S. and Tosyali Dis Ticaret A.S. (collectively, Tosçelik). The petitioners in this proceeding are Atlas Tube, Inc. and Searing Industries, Inc. (collectively, Petitioners).

In the Preliminary Results, the Department stated that interested parties were to submit case briefs within 30 days of publication of the Preliminary Results and rebuttal briefs within five days after the due date for filing case briefs. See Preliminary Results at 33782. No interested party submitted a case or rebuttal brief. On July 29, 2010, we released the verification report for the sales verification of Tosçelik. See Memorandum from Tyler Weinhold and Mark Flessner to the file, “Verification of Sections A-C Questionnaire Responses submitted by Toscelik Profil ve Sac End. A.S. (Toscelik Profil) and its affiliated exporter Tosyali Dis Ticaret San. A.S. (Tosyali Dis Ticaret) (collectively Toscelik) in the Antidumping Duty Administrative Review of Light-Walled Rectangular Pipe and Tube From Turkey” (Verification Report). No interested party submitted comments on the report. We made no changes for the final results.

Period of Review

The period of review (POR) is January 30, 2008, through April 30, 2009.

Scope of the Order

The merchandise subject to this order is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this order is currently classified under the Harmonized Tariff Schedule of the United States (HTSUS) subheadings 7306.61.50.00 and 7306.61.70.60. While HTSUS subheadings are provided for convenience and CBP's customs purposes, our written description of the scope of the order is dispositive.

Final Results of Review

The Department has determined that the following margins exist for the period January 30, 2008, through April 30, 2009:

Manufacturer | Weighted Average Margin (percentage)
Tosçelik Profil Ve Sac Endustrisi A.S | 0.00%

Assessment Rates

Pursuant to these final results, the Department has determined, and CBP shall assess, antidumping duties on all appropriate entries. The Department intends to issue assessment instructions for Toscelik to CBP 15 days after the date of publication of these final results. Pursuant to 19 CFR 351.212(b)(1), we calculated importer-specific (or customer-specific) ad valorem duty assessment rates based on the ratio of the total amount of the dumping margins calculated for the examined sales to the total entered value of those same sales. We will instruct CBP to assess antidumping duties on all appropriate entries covered by this review if any importer-specific (or customer-specific) assessment rate calculated in the final results of this review are above de minimis.

The Department clarified its “automatic assessment” regulation on May 6, 2003. See Antidumping and Countervailing Duty Proceedings: Assessment of Antidumping Duties, 68 FR 23954 (May 6, 2003) (Assessment of Antidumping Duties). This clarification will apply to entries of subject merchandise during the POR produced by Tosçelik for which Tosçelik did not know the merchandise was destined for the United States. In such instances, we will instruct CBP to liquidate un-reviewed entries at the 27.04 percent all-others rate from the LTFV investigation if there is no company-specific rate for an intermediary involved in the transaction. See Notice of Antidumping Duty Order: Light-Walled Rectangular Pipe and Tube From Turkey, 73 FR 31065 (May 30, 2008). See Assessment of Antidumping Duties for a full discussion of this clarification.

Cash Deposit Requirements

Furthermore, the following deposit requirements will be effective upon publication of these final results for all shipments of light-walled rectangular pipe and tube from Turkey entered, or withdrawn from warehouse, for consumption on or after the publication date of the final results of this administrative review, as provided by section 751(a)(1) of the Tariff Act: 1) the cash deposit rate for Toscelik Profil Ve Sac Endustrisi A.S. will be the rate established in the final results of review; 2) if the exporter is not a firm covered in this review or the less-than-fair-value (LTFV) investigation, but the manufacturer is, the cash deposit rate will be the rate established for the most recent period for the manufacturer of the merchandise; and 3) if neither the exporter nor the manufacturer is a firm covered in this or any previous review conducted by the Department, the cash deposit rate will be the all-others rate from the LTFV investigation. Id. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing this notice in accordance with sections 751(a)(1) and 777(i) of the Tariff Act.

Dated: September 27, 2010.
Ronald K. Lorentzen,
Deputy Assistant Secretary for Import Administration.

[FR Doc. 2010-24831 Filed 10-1-10; 8:45 am]

BILLING CODE 3510-DS-S